DEPARTMENT OF THE INTERIOR

Minerals Management Service

Agency Information Collection Activities: Submitted for Office of Management and Budget Review (OMB), Comment Request

AGENCY: Minerals Management Service (MMS), Interior.

ACTION: Notice of an extension of a currently approved information collection (OMB Control Number 1010-0087).

SUMMARY: To comply with the Paperwork Reduction Act (PRA) of 1995 (44 U.S.C. 3501 et seq.), we are submitting to OMB for review and approval an information collection request (ICR) titled, Cooperative Agreements. We are also soliciting comments from the public on this ICR which describes the information collection, its expected costs and burden, and how the data will be collected.

DATES: Submit written comments on or before August 10, 2000.

ADDRESSES: You may submit written comments to the Office of Information and Regulatory Affairs, OMB, Attention: Desk Officer for the Department of the Interior (OMB Control Number 1010-0087), 725 17th Street, NW, Washington, D.C. 20503. Also, submit copies of your written comments to David S. Guzy, Chief, Rules and Publications Staff, Minerals Management Service, Royalty Management Program, P.O. Box 25165, MS 3021, Denver, Colorado 80225. If you use an overnight courier service, our courier address is Building 85, Room A-613, Denver Federal Center, Denver, Colorado 80225.

Public Comment Procedure

Submit your comments to the offices listed in the ADDRESSES section or email your comments to us at RMP.comments@mms.gov. Include the title of the information collection and the OMB Control Number in the “Attention” line of your comments; also, include your name and return address. Submit electronic comments as an ASCII file, avoiding the use of special characters and any form of encryption. If you do not receive a confirmation that we have received your email, contact David S. Guzy at (303) 231-3432. We will post all comments at http://www.rmp.mms.gov for public review.

Paper copies of the comments may be reviewed by contacting David S. Guzy, Chief, Rules and Publications Staff, telephone (303) 231-3432, FAX (303) 231-3385. Our practice is to make paper copies of these comments, including names and addresses of respondents, available for public review during regular business hours at our offices in Lakewood, Colorado. Individual respondents may request that we withhold their home address from the public record, which we will honor to the extent allowable by law. There also may be circumstances in which we would withhold from the rulemaking record a respondent's identity, as allowable by law. If you request that we withhold your name and/or address, state this prominently at the beginning of your comments. However, we will not consider anonymous comments. We will make all submissions from organizations or businesses, and from individuals identifying themselves as representatives or officials of organizations or businesses, available for public inspection in their entirety.

FOR FURTHER INFORMATION CONTACT: Dennis C. Jones, Rules and Publications Staff, phone (303) 231-3046, FAX (303) 231-3385, email Dennis.C.Jones@mms.gov. A copy of the ICR is available to you without charge upon request.

SUPPLEMENTARY INFORMATION: Title: Cooperative Agreements.

OMB Control Number: 1010-0087.

Bureau Form Number: N/A.

Abstract: The Department of the Interior (DOI) is responsible for matters relevant to mineral resource development on Federal and Indian Lands and the Outer Continental Shelf (OCS). The Secretary of the Interior (Secretary) is responsible for managing the production of minerals from Federal and Indian Lands and the OCS; for collecting royalties from lessees who produce minerals; and for distributing the funds collected in accordance with applicable laws. The Secretary also has an Indian trust responsibility to manage Indian lands and seek advice and information from Indian beneficiaries. We perform the royalty management functions and assist the Secretary in carrying out DOI's Indian trust responsibility.

States and Tribes wishing to do royalty audits in cooperation with MMS must submit a written request for consideration and application to enter into a cooperative agreement, signed by the governor, Tribal chairman, or other appropriate official. The request must outline the activities to be undertaken and present evidence that the States and Tribes can meet the standards established by the Secretary for the activities to be conducted. After the application is accepted and a cooperative agreement is in effect, the States and Tribes submit an annual work plan and budget, and quarterly reimbursement vouchers.

No proprietary data will be collected; there are no questions of a sensitive nature; and responses to this information collection are voluntary.

Frequency: On occasion, monthly, quarterly, and annually

Estimated Number and Description of Respondents: 10 States and 7 Indian tribes

Estimated Annual Reporting and Recordkeeping “Hour” Burden: 1,224 hours.

Reporting/recordkeeping requirements | Frequency | Number of respondents | Burden hours | Annual burden hours
Annual work plans and budgets, voucher preparation, recordkeeping | Monthly, Quarterly, Annually | 7 Indian Tribes and 10 States | 72 | 1.224

Estimated Annual Reporting and Recordkeeping “Non-Hour Cost” Burden: N/A.

Comments: Section 3506(c)(2)(A)of the PRA requires each agency “* * * to provide notice * * * and otherwise consult with members of the public and affected agencies concerning each proposed collection of information * * *.” Agencies must specifically solicit comments to: (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

We published a Federal Register Notice on December 3, 1999 (64 FR 67931), with the required 60-day comment period soliciting public comments on renewing OMB's approval to continue to collect this information. No comments were received. If you now wish to comment on this ICR, please send your comments directly to the offices listed under the ADDRESSES section of this Notice. OMB has up to 60 days after reviewing an ICR to approve or disapprove the information collection. However, OMB may act sooner than that once the 30-day public comment period has ended. Therefore, to ensure maximum consideration, you should submit your comments on or before August 10, 2000s.

The PRA provides that an agency shall not conduct or sponsor, and a person is not required to respond to, a collection of information unless it displays a currently valid OMB Control Number.

MMS Information Collection Clearance Officer: Jo Ann Lauterbach, telephone (202) 208-7744.

Dated: June 29, 2000.
R. Dale Fazio,
Acting Associate Director for Royalty Management.

[FR Doc. 00-17512 Filed 7-10-00; 8:45 am]

BILLING CODE 4310-MR-U